DEPARTMENT OF COMMERCE

International Trade Administration

Environmental Technologies Trade Advisory Committee (ETTAC)

AGENCY: International Trade Administration, US Department of Commerce.

ACTION: Notice of open meeting.

SUMMARY: The Environmental Technologies Trade Advisory Committee will hold a plenary meeting from 9-4:30 on May 18, 2000. Lunch is not included. The ETTAC was created on May 31, 1994, to advise the U.S. government on policies and programs to expand U.S. exports of environmental products and services.

DATE and PLACE: May 18, 2000. The meeting will take place in Room 6800 of the Department of Commerce, 14th Street and Constitution Avenue, NW, Washington, DC 20230.

The plenary meeting will welcome new members, include an ethics briefing, guest speaker on AID-Trade issues, and round table discussion on the international water sector with senior government officials.

This meeting is physically accessible to people with disabilities. Requests for sign language interpretation or other auxiliary aids should be directed to Sage Chandler, Department of Commerce, Office of Environmental Technologies Exports. Phone: 202-482-1500.

Dated: May 1, 2000.
Sage Chandler,
Designated Federal Official, Office of Environmental Technologies Exports.

[FR Doc. 00-11752 Filed 5-10-00; 8:45 am]

BILLING CODE 3510-DR-P